DEPARTMENT OF ENERGY

Federal Energy Regulatory Commission

[Project No. 13566-000]

McGinnis, Inc.; Notice of Preliminary Permit Application Accepted for Filing and Soliciting Comments, Motions To Intervene, and Competing Applications

September 3, 2009.

On August 6, 2009, McGinnis, Inc. filed an application, pursuant to section 4(f) of the Federal Power Act, proposing to study the feasibility of the Melvin Price Hydrokinetic Project, to be located on the Mississippi River, in St. Claire County, Missouri and Madison County, Illinois.

The proposed Melvin Price Project would be located up to 12,000 feet downstream of the U.S. Army Corps of Engineers Melvin Price Lock and Dam. The proposed project would consist of: (1) Ten turbine generators, with a total installed capacity of 350 kilowatts, mounted to a single barge attached to the riverbed; (2) an armored submarine cable to transmit power generated to a metering station and transformer on shore adjacent to the barge; (3) a new approximately one- to two-mile-long, 13.2 kilovolt transmission line, which would extend from the new metering station to interconnect with the grid at either an existing hydropower facility substation located at Price Dam or a nearby existing Wood River Station; and (4) appurtenant facilities. The Melvin Price Hydrokinetic Project would have an estimated average annual generation of 1,533 megawatts-hours, which would be distributed to the power grid or sold directly to industrial, commercial, or municipal users.

Applicant Contact: Mr. Bruce McGinnis, Sr., McGinnis, Inc., P.O. Box 534, 502 Second St. Ext., South Point, Ohio 45680, (740) 377-4391, bmcginnis@mcginnisinc.com.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13566) in the docket number field to access the document. For assistance, call toll-free 1-866-208-3372.

Kimberly D. Bose,
Secretary.

[FR Doc. E9-21870 Filed 9-10-09; 8:45 am]

BILLING CODE 6717-01-P